DEPARTMENT OF ENERGY

Federal Energy Regulatory Commission

[Docket No. RP08-59-000]

Columbia Gas Transmission Corporation; Notice of Request for Permission to Withdraw Tariff Filing

Correction

In notice document E8-5252 beginning on page 14242 in the issue of Monday, March 17, 2008, make the following correction:

On page 14242, in the third column, the docket number should read as set forth above.

[FR Doc. Z8-5252 Filed 4-11-08; 8:45 am]

BILLING CODE 1505-01-D

DEPARTMENT OF JUSTICE

Antitrust Division

Notice Pursuant to the National Cooperative Research and Production Act of 1993—ASTM International—Standards

Correction

In notice document E8-6996 appearing on page 18812 in the issue of Monday, April 7, 2008, make the following correction:

On page 18812, in the second column, in the first paragraph, in the seventh line, “(“ASTN”)” should read “(“ASTM”)”.

[FR Doc. Z8-6996 Filed 4-11-08; 8:45 am]

BILLING CODE 1505-01-D

DEPARTMENT OF JUSTICE

Antitrust Division

Notice Pursuant to the National Cooperative Research and Production Act of 1993—Cooperative Research Group on Development and Evaluation of a Gas Chromatograph Testing Protocol

Correction

In notice document E8-7007 appearing on page 18813 in the issue of Monday, April 7, 2008, make the following correction:

On page 18813, in the first column, in the second paragraph, in the third line, “ABE Inc.” should read “ABB Inc.”.

[FR Doc. Z8-7007 Filed 4-11-08; 8:45 am]

BILLING CODE 1505-01-D